DEPARTMENT OF THE INTERIOR

Fish and Wildlife Service

Availability of a Draft Environmental Assessment, Preliminary Finding of No Significant Impact, and Notice of Receipt of an Application for an Enhancement of Survival Permit by The Nature Conservancy, Virginia Chapter, To Administer a “Safe Harbor” Program in Southeast Virginia

AGENCY: Fish and Wildlife Service, Interior.

ACTION: Notice.

SUMMARY: The Nature Conservancy, Virginia Chapter, (Applicant) has applied to the U.S. Fish and Wildlife Service (Service) for an enhancement of survival permit (ESP) pursuant to Section 10(a)(1)(A) of the Endangered Species Act of 1973, as amended (Act). The proposed ESP would authorize the incidental take of a federally endangered species, the red-cockaded woodpecker, Picoides borealis (RCW). The permit would authorize incidental take only on land that is enrolled in the proposed Safe Harbor program. (See the SUPPLEMENTARY INFORMATION section below.)

The Service also announces the availability of a draft environmental assessment (EA) and safe harbor plan for the ESP application. Copies of the EA and/or safe harbor plan may be obtained by making a request to the Northeast Regional Office (see ADDRESSES). Requests must be in writing to be processed. This notice also advises the public that the Service has made a preliminary determination that issuing the ESP is not a major Federal action significantly effecting the quality of the human environment within the meaning of Section 102(2)(C) of the National Environmental Policy Act of 1969, as amended (NEPA). The Finding of No Significant Impact (FONSI) is based on information contained in the EA and the safe harbor plan. The final determination will be made no sooner than 30 days from the date of this notice. An excerpt of the FONSI appears in the SUPPLEMENTARY INFORMATION section of this notice. This notice is provided pursuant to Section 10(c) of the Act and NEPA Regulations (40 CFR 1506.6).

DATES: Written comments on the permit application, EA/FONSI, and safe harbor plan should be sent to the Service's Northeast Regional Office (see ADDRESSES) and should be received on or before May 22, 2000.

ADDRESSES: Persons wishing to review the application, safe harbor plan, and EA may obtain a copy by writing the Service's Northeast Regional Office, 300 Westgate Center Drive, Hadley, Massachusetts 01035. Documents will also be available for public inspection by appointment during normal business hours at the Regional Office, (Attn: Endangered Species Permits), or at the following Field Offices: Field Supervisor, Virginia Field Office, 6669 Short Lane, Gloucester, Virginia 23061; or Red-cockaded Woodpecker Recovery Coordinator, U.S. Fish and Wildlife Service, College of Forest and Recreational Resources, 261 Lehotsky Hall, Box 341003, Clemson, South Carolina 29634-1003 (telephone 864/656-2432). Written data or comments concerning the application, EA, or safe harbor plan should be submitted to the Regional Office. Requests for the documents must be in writing to be processed. Please reference permit number TE-0015147 in such comments, or in requests of the documents discussed herein.

FOR FURTHER INFORMATION CONTACT: Ms. Diane Lynch, Regional Permit Coordinator, (see ADDRESSES above), telephone: 413-253-8628; or Karen Mayne, Supervisor, Virginia Field Office, (see ADDRESSES above), telephone 804-693-6694 extension 103.

SUPPLEMENTARY INFORMATION: The RCW is a territorial, nonmigratory breeding bird species. RCWs live in social units called groups which generally consist of a breeding pair, the current year's offspring, and one or more helpers (normally adult male offspring of the breeding pair from previous years). Groups maintain year-round territories near their roost and nest trees. The RCW is unique among the North American woodpeckers in that it is the only woodpecker that excavates its roost and nest cavities in living pine trees. Each group member has its own cavity, although there may be multiple cavities in a single pine tree. The aggregate of cavity trees is called a cluster. RCWs forage for insects almost exclusively on pine trees and they generally prefer pines greater than 10 inches diameter at breast height. Foraging habitat is contiguous with the cluster. The number of acres required to supply adequate foraging habitat depends on the quantity and quality of the pine stems available.

The RCW is endemic to the pine forests of the Southeastern United States and was once widely distributed across 16 states. The species evolved in a fire-maintained mature pine forest ecosystem. The RCW has declined primarily due to the conversion of old stand pine forests to young pine plantations, agricultural fields, and residential and commercial developments, and to hardwood encroachment in existing pine forests due to fire suppression. The species is still widely distributed (presently occurs in 13 southeastern States), but remaining populations are highly fragmented and isolated. Presently, the largest known populations occur on federally owned lands such as military installations and national forests.

In Virginia, the majority of the known remaining RCWs (16 birds as of December, 1999), including all of the known breeding pairs, occur on The Nature Conservancy's Piney Grove Preserve in Sussex County. This is the northern most population of RCWs remaining. The Virginia Department of Game and Inland Fisheries, the U.S. Fish and Wildlife Service, and The Nature Conservancy concur that the future of the RCW in Virginia rests on management of the Piney Grove Preserve and the surrounding private lands.

The Service and several other agencies/organizations are working cooperatively to further develop an overall conservation strategy for the RCW population and the ecosystem upon which it depends. One component of this strategy is to expand the safe harbor program to other states and regions within the RCW's historic range. The Service recognizes that landowners presently have no legal or economic incentive to undertake proactive management actions, such as hardwood midstory removal, prescribed burning, or protecting future cavity trees, that will benefit and help recover the RCW. Indeed, landowners actually have a disincentive to undertake these actions because of land use limitations that could result if their management activities attract RCWs. However, some Virginia private landowners near the Piney Grove Preserve may be willing to take or permit actions that would benefit the RCW on their property if the possibility of future land use limitations could be reduced or eliminated.

Thus, the Applicant is proposing this Safe Harbor program, which is designed to encourage voluntary RCW habitat restoration or enhancement activities by relieving a landowner who enters into a cooperative agreement with the Service from any additional responsibility under the Act beyond that which exists at the time he or she enters into the agreement; i.e., to provide a “safe harbor.” The cooperative agreement will identify any existing RCW clusters and will describe the actions that the landowner commits to take or allows to be taken to improve RCW habitat on the property (e.g., hardwood midstory removal, establishment of cavities etc.), and the time period within which those actions are to be taken and maintained. Participating landowners who enter into cooperative agreements with the applicant will be included within the scope of the ESP by Certificates of Inclusion administered by The Nature Conservancy in coordination with the Virginia Department of Game and Inland Fisheries and the Service. A participating landowner must maintain the baseline habitat requirements on his/her property (i.e., any existing RCW groups and associated habitat), but will be allowed to incidentally take RCWs at some point in the future on other habitat on the property if RCWs are attracted to the site by the proactive management measures undertaken by the landowner. No incidental taking of any existing RCW group is permitted under this program. Further details about this program are found in the safe harbor plan.

The EA considers the environmental consequences of two alternatives, including the preferred alternative—to implement the Safe Harbor program. The likely effects of the no-action alternative are the continued lack of management to benefit the RCW in many of the natural pine stands that remain near the Piney Grove Preserve, and the continued absence of RCWs on those lands. The proposed action alternative is the issuance of an enhancement of survival permit and implementation of the Safe Harbor program. The Service believes that the Safe Harbor will benefit the RCW in Virginia by providing additional habitat for future growth of the population.

The Service has made a preliminary determination that the issuance of the ESP is not a major Federal action significantly effecting the quality of the human environment within the meaning of Section 102(2)(C) of NEPA. This preliminary information may be revised due to public comment received in response to this notice and is based on information contained in the EA and safe harbor plan. An appropriate excerpt from the FONSI reflecting the Service's finding on the application is provided below:

Based on the analysis conducted by the Service, it has been determined that:

1. Issuance of an ESP would not have significant effects on the human environment in the project area.

2. Implementation of the safe harbor plan will result in a net conservation benefit for the RCW.

3. The proposed take will not appreciably reduce the likelihood of survival and recovery of the species in the wild.

4. The indirect impacts that may result from issuance of the ESP are addressed by other regulations and statutes under the jurisdiction of other government entities. The validity of the Service's ESP is contingent upon the Applicant's compliance with the terms of the permit and all other laws and regulations under the control of State, local, and other Federal governmental entities.

The Service will also evaluate whether the issuance of a Section 10(a)(1)(A) ESP complies with Section 7 of the Act by conducting an intra-Service Section 7 consultation. The results of the biological opinion, in combination with the above findings, will be used in the final analysis to determine whether or not to issue the ESP.

Dated: April 12, 2000.
Mamie Parker,
Deputy Regional Director, Region 5.

[FR Doc. 00-9888 Filed 4-19-00; 8:45 am]

BILLING CODE 4310-55-P